DEPARTMENT OF AGRICULTURE

Animal and Plant Health Inspection Service

[Docket No. APHIS-2021-0069]

Privacy Act of 1974; System of Records

AGENCY: Animal and Plant Health Inspection Service, USDA.

ACTION: Notice of a modified system of records.

SUMMARY: Pursuant to the Privacy Act of 1974 and Office of Management and Budget Circular No. A-108, the U.S. Department of Agriculture (USDA) gives notice that a component agency, the Animal and Plant Health Inspection Service (APHIS), proposes to modify an existing system of records notice titled Wildlife Services Management Information System, USDA/APHIS-9. Among other changes, the system will be renamed Wildlife Services Information Management System, USDA/APHIS-9. Wildlife Services Information Management System serves as the official record of Wildlife Services' work in wildlife damage management activities related to agriculture, human health and safety, natural resources, and human property.

DATES: In accordance with 5 U.S.C. 552a(e)(4) and (11), this notice is applicable upon publication, subject to a 30-day notice and comment period in which to comment on the routine uses described in the routine uses section of this system of records notice. Please submit any comments by August 9, 2024.

ADDRESSES: You may submit comments by either of the following methods:

• Federal eRulemaking Portal: Go to http://www.regulations.gov. Enter APHIS-2021-0069 in the Search field. Select the Documents tab, then select the comment button in the list of documents.

• Postal Mail/Commercial Delivery: Send your comment to Docket No. APHIS-2021-0069, Regulatory Analysis and Development, PPD, APHIS, Station 3A-03.8, 4700 River Road, Unit 118, Riverdale, MD 20737-1238.

Supporting documents and any comments we receive on this docket may be viewed at http://www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Ms. Felicia L. Hubb, Staff Wildlife Biologist, APHIS, Wildlife Services, 4700 River Road, Unit 87, Riverdale, MD 20737; (301) 851-3996; Felicia.L.Hubb@usda.gov. For Privacy Act questions concerning this system of records notice, please contact the Director, Freedom of Information and Privacy Act Staff, 4700 River Road, Unit 50, Riverdale, MD 20737; (301) 851-4076; APHISPrivacy@usda.gov. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: The U.S. Department of Agriculture (USDA) Animal and Plant Health Inspection Service (APHIS) is modifying an existing system of records notice for Wildlife Services Management Information System, USDA/APHIS-9. The system will be renamed Wildlife Services Information Management System, USDA/APHIS-9. The system of records for Wildlife Services, USDA/APHIS-9, was last published on October 8, 2015, in its entirety in the Federal Register (80 FR 60872-60875, Docket No. APHIS-2014-0036). (To view the notice, go to www.regulations.gov, and enter APHIS-2014-0036 in the Search field.)

Wildlife Services Information Management System serves as the official record of Wildlife Services' (WS') work in wildlife damage management activities related to agriculture, human health and safety, natural resources, and human property. WS supports the APHIS mission to safeguard the health, welfare, and value of American agriculture and natural resources. This system, which currently includes the Management Information System (MIS), and will include the successor system, Operations and Reporting System (OARS), and any future successor system, serves as the official record of WS' work in wildlife damage management activities related to agriculture, human health and safety, natural resources, and human property. WS conducts work to manage damage related to wildlife, wildlife diseases, aviation safety, invasive species, blackbird management, and livestock, aquaculture, and other natural resource protection. This system improves WS' capability to monitor and measure its performance, provide timely information to decision makers, and document WS' work. WS' personnel enter wildlife damage management activities into the system, and WS uses the information to generate wildlife damage management reports for APHIS, its customers, stakeholders, and the public. System generated reports do not disclose personal identifying information or distinguishable private property locations.

APHIS is making the following changes to the system of records notice:

• Renaming the system to broaden the name that will include any information collection system WS uses in the future to collect the information described by this system of records notice;

• Updating the system location and system manager to reflect the current system locations and system manager;

• Updating the location of the authorities for maintenance of the system because the sections were reorganized in the United States Code;

• Updating the purpose of the system to more accurately describe the WS' activities and services provided for better reporting capabilities;

• Expanding the categories of individuals to include the individual entities more accurately for whom WS provides services and the government personnel involved in WS' associated services and activities to more accurately identify stakeholder groups;

• Expanding the categories of records to list the records maintained in the system by category;

• Expanding the record source categories to add additional information that may be added to the system by WS;

• Updating the policies and practices for storage and retention and disposal of records in the system to more accurately describe the storage and record retention times until the National Archives and Records Administration approves APHIS' requested records retention schedule;

• Updating the policies for retrieval of records to provide the elements by which records can be retrieved within the system;

• Updating the system safeguards to add reference to eAuthentication;

• Updating the notification, record access, and contesting record procedures to reference the subject regulations found in 7 CFR part 1; and

• Providing an updated full list of routine uses in the routine uses section of the document published with this notice. Each routine use includes an explanation as to the reason for the use.

SYSTEM NAME AND NUMBER:

Wildlife Services Information Management System, USDA/APHIS-9.

SECURITY CLASSIFICATION:

Unclassified.

SYSTEM LOCATIONS:

System files are stored and maintained on a secure USDA approved cloud system, Microsoft Azure Cloud. APHIS headquarters is located at USDA Center at Riverside, 4700 River Road, Riverdale, MD 20737. File copies may be stored as part of an email on USDA email servers and retained in the email archive. In addition, hard copy components of the system and computer files, tapes, and disks are maintained in a safeguarded environment at WS field offices with access only by authorized personnel. The locations of WS field offices are available online at (https://www.aphis.usda.gov/contact/wildlife). Applications may also be hosted on a contract cloud system approved for government use such as Amazon Web Services or GovCloud.

SYSTEM MANAGER(S):

Wildlife Services Operational Support Staff Director, USDA APHIS WS, 4700 River Road, Unit 87, 2D-07B, Riverdale, MD 20737; Telephone: (301) 851-4002.

AUTHORITIES FOR MAINTENANCE OF THE SYSTEM:

• The Act of March 2, 1931, as amended (46 Stat. 1468-69; 7 U.S.C. 8351-8352);

• The Act of December 22, 1987 (Pub. L. 100-202, 101(k), 101 Stat. 1329-331, 7 U.S.C. 8353); and

• 16 U.S.C. 667.

PURPOSE(S) OF THE SYSTEM:

WS supports the APHIS mission to safeguard the health, welfare, and value of American agriculture and natural resources. The Wildlife Services Information Management System, which currently includes the Management Information System (MIS), and will include the successor system, Operations and Reporting System (OARS), and any future successor system, serves as the official record of WS' work in wildlife damage management activities related to agriculture, human health and safety, natural resources, and human property. WS conducts work to manage damage related to wildlife diseases, aviation safety, invasive species, blackbird management, and livestock, aquaculture, and other natural resource protection. This system improves WS' capability to monitor and measure its performance, provide timely information to decision makers, and document WS' work. WS' personnel enter wildlife damage management activities into the system, and WS uses the information to generate wildlife damage management reports for APHIS, its customers, stakeholders, and the public. System generated reports do not disclose personal identifying information or distinguishable private property locations.

CATEGORIES OF INDIVIDUALS COVERED BY THE SYSTEM:

Individuals covered in this system include people with signed agreements with WS for wildlife damage management services. Individuals are identified as owners, managers, cooperators, or contacts for premises (locations). Individuals and cooperators may include, but are not limited to, farmers, ranchers, airport managers, private landowners, private homeowners, business or property owners, property tenants, homeowner's association representatives, golf course managers, pest control operators, the public, and employees of WS and Federal, State, local, and Tribal governments.

CATEGORIES OF RECORDS IN THE SYSTEM:

The categories of records in the system include:

Contact information: Contact information may include, but is not limited to, names, phone numbers, physical addresses, mailing addresses, and electronic mail addresses. Individuals' information may also include their roles or titles such as owners, managers, employees, or related businesses; contractors and cooperators; and local, State, Tribal, or Federal personnel, including WS' personnel. In addition, WS assigns an identifying number for cooperators to whom it provides services on specific wildlife damage projects or for individual citizens who are the primary contact in a funded cooperative agreement relationship. Note: WS records identifying numbers pertain only on the paper-based component of the system.

Agreement information: Address information may include, but is not limited to, address or location and description of property, land class, and parcel information, which may include geographic coordinates; agreement number, specific dates or date ranges of WS' participation; customer resource information, resources and property that were threatened, damaged, or destroyed by wildlife, value of resources or physical property; adverse human or animal incident information; and insurance, appraisals, and indemnity information.

Location: Information about where wildlife damage occurs and/or where wildlife damage management activities took place may include, but is not limited to, a physical address including State and Zip code, county, geographic coordinates, plat map references, or distances from other premises or landmarks.

Employee information: Employee information about WS' employees, WS' collaborators, and WS' contract pilots may include, but is not limited to, names, titles, duty stations, usernames, telephone numbers (home and work), work email address, unique employee identification numbers, and system passwords. WS' employee identification will also be linked to the properties or sites visited as listed under the Location category above.

Operational records: These records of WS and cooperator wildlife damage management activities may include, but is not limited to, direct control methods, technical assistance, site visits, assessments, consultations, vaccinations, and wildlife disease surveillance. This information may also include information regarding personnel and other resources involved.

Animal descriptions: Information and characteristics about animals may include, but is not limited to, species, sex, weight, age, condition, behavior, fate, and ownership of livestock and domestic animals.

Identifiers: Ear tags, codes, numbers, or descriptions used to connect data about entities such as, but not limited to, animals, date, location, biological specimens, or test results, if sampled for disease diagnostics or genetic testing.

RECORD SOURCE CATEGORIES:

WS personnel assigned to the specific project input all information into the system. Sources of information include USDA, APHIS, WS, and other Federal, State, local, and Tribal government personnel and their contractors or cooperators involved with managing wildlife conflicts; and WS' cooperators, individuals, or groups identified as owners, managers, or contacts for properties including but not limited to, ranches, farms, or other businesses or operations. OARS will integrate commercially available geospatial products depicting land ownership and property boundaries of public and privately owned lands (parcel data). Parcel data is publicly available at the county level but is curated by commercial vendors to provide single source national level data. WS will use the maps to identify properties where personnel have cooperator's permission to conduct wildlife damage management. Parcel data provided to WS will not be made available to the public.

ROUTINE USES OF RECORDS MAINTAINED IN THE SYSTEM, INCLUDING CATEGORIES OF USERS AND PURPOSES OF SUCH USES:

In addition to those disclosures generally permitted under 5 U.S.C. 552a(b) of the Privacy Act, records contained in the system may be disclosed outside USDA as a routine use under 5 U.S.C. 552a(b)(3), to the extent that such uses are compatible with the purposes for which the information was collected. Such permitted routine uses include the following:

(1) To cooperative Federal, State, Tribal, and local government officials, employees, or contractors, and other parties as necessary to carry out WS' program; and other parties engaged to assist in administering WS' program. Such contractors and other parties will be bound by the nondisclosure provisions of the Privacy Act. This routine use assists the Agency in carrying out WS' program, and thus is compatible with the purpose for which the records are created and maintained;

(2) To Federal, State, Tribal, and local regulatory agencies and their employees and contractors who collaborate with WS in implementation of, or agencies that regulate, wildlife management projects or programs, or who have an interest in, or regulate, animal or public health, wildlife species conservation, or national security;

(3) To State- or Federal Government-level representatives of the U.S. Environmental Protection Agency, in compliance with the Federal Insecticide, Fungicide, and Rodenticide Act (FIFRA) mandate (FIFRA sec. 8, 7 U.S.C. 136f, and 136i-l), of the location on a cooperator's property where certain regulated pesticide devices are deployed or regulated pesticides are applied;

(4) To land management agencies, such as the Bureau of Land Management and State, local, and Tribal land management programs relating to, but not limited to, wildlife damage on grazing allotments, recreational lands (parks);

(5) To cooperating laboratories, Federal, State, and local government officials, employees, or contractors, and other parties engaged to assist in administering animal health programs to assist the Agency in carrying out WS' program;

(6) To USDA contractors or cooperators with signed agreements collaborating with USDA in conducting, managing, or evaluating wildlife disease or pest surveillance or control programs, and monitoring for animal issues, diseases, or pests or to aid in containing and responding to a foreign or domestic animal disease outbreak, zoonotic disease outbreak, bioterrorism, hazardous materials event, or other animal health emergency;

(7) To appropriate law enforcement agencies, when a record on its face, or in conjunction with other records, indicates a violation or potential violation of law, whether civil, criminal, or regulatory in nature, and whether arising by general statute or particular program, statute, or by regulation, rule, or order issued pursuant thereto, disclosure may be made to the appropriate agency, whether Federal, foreign, State, Tribal, local, or other public authority responsible for enforcing, investigating, or prosecuting such violation or charged with enforcing or implementing the statute, or rule, regulation, or order issued pursuant thereto, if the information disclosed is relevant to any enforcement, regulatory, investigative, or prosecutive responsibility of the receiving entity;

(8) To the Department of Justice when: (a) USDA, or any component thereof; or (b) any employee of USDA in his or her official capacity, or any employee of the agency in his or her individual capacity where the Department of Justice has agreed to represent the employee; or (c) the United States Government, is a party to litigation or has an interest in such litigation, and USDA determines that the records are relevant and necessary to the litigation and the use of such records by the Department of Justice is for a purpose that is compatible with the purpose for which USDA collected the records;

(9) In an appropriate proceeding before a court, grand jury, or administrative or adjudicative body or official, when USDA or other Agency representing USDA determines that the records are relevant and necessary to the proceeding; or in an appropriate proceeding before an administrative or adjudicative body when the adjudicator determines the records to be relevant to the proceeding;

(10) To appropriate agencies, entities, and persons when: (a) USDA suspects or has confirmed that there has been a breach of system of records; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(11) To another Federal agency or Federal entity, when information from this system of records is reasonably necessary to assist the recipient agency or entity in (a) responding to a suspected or confirmed breach or (b) preventing, minimizing, or remedying the risk of harm to individuals, the agency (including its information systems, programs, and operations), the Federal Government, or national security;

(12) To a Congressional office in response to an inquiry from that Congressional office made at the written request of the individual about whom the record pertains;

(13) To contractors and their agents, grantees, experts, consultants, and others performing or working on a contract, service, grant, cooperative agreement, or other assignment for USDA, when necessary to accomplish an Agency function related to this system of records;

(14) To USDA contractors, partner agency employee or contractors, or private industry employed to identify patterns, trends, or anomalies indicative of fraud, waste, or abuse;

(15) To the National Archives and Records Administration (NARA) or other Federal Government agencies for records management activities conducted under 44 U.S.C. 2904 and 2906; and

(16) Disclosure to consumer reporting agencies: In accordance with 31 U.S.C. 3711(e) when trying to collect a claim of the Government under a law except the Internal Revenue Code of 1986 (26 U.S.C. 1 et seq.).

POLICIES AND PRACTICES FOR STORAGE OF RECORDS:

WS will maintain MIS and OARS in the Microsoft Azure Cloud. APHIS WS will maintain paper documents that are executed originals in locked file cabinets within WS' State office buildings that are locked and require employee identification for admittance. To comply with NARA and APHIS record storage policies and implementation schedules, paper documents will be converted to electronic format and stored in approved government Cloud based system.

POLICIES AND PRACTICES FOR RETRIEVAL OF RECORDS:

Under this system, data retrieval may be organized by agreement number, name of cooperator, address, or phone number. Retrieval permissions for WS employees who have access to the system are determined by the data usage role of the employee.

POLICIES AND PRACTICES FOR RETENTION AND DISPOSAL OF RECORDS:

APHIS has developed record retention schedules, but until they are approved by NARA, electronic systems are classified as permanent in accordance with unscheduled records management policy. The records in this system are currently unscheduled. APHIS is in the process of requesting records disposition authority from NARA, and these records will be retained until appropriate disposition authority is obtained from NARA.

ADMINISTRATIVE, TECHNICAL, AND PHYSICAL SAFEGUARDS:

Control measures designed to prevent misuse of accessible data include unique user identification, a password or eAuthentication protection protocol, and limitation of user roles through compartmentalization of allowed access. Agency implemented cybersecurity measures and firewalls are built into the application user interface, and monitoring of use of the system for profiles of misuse is possible. The hard copy components of the system, and computer files, tapes, and disks are kept in a safeguarded environment at WS' field offices with access only by authorized personnel.

System access, including access to records stored in an Agency approved repository, is limited to individuals with appropriate permissions who need to know the information for performance of official duties.

RECORD ACCESS PROCEDURES:

All requests for access to records must be in writing and should be submitted to the APHIS Privacy Act Officer, 4700 River Road, Unit 50, Riverdale, MD 20737; or by facsimile (301) 734-5941; or by email APHISPrivacy@usda.gov. In accordance with 7 CFR 1.112, (Procedures for requests pertaining to individual records in a record system), the request must include the full name of the individual making the request; the name of the system of records; any other information specified in the system notice; and preference of inspection, in person or by mail. In accordance with 7 CFR 1.113, prior to inspection of the records, the requester shall present sufficient identification (e.g., driver's license, employee identification card, credit cards) to establish that the requester is the individual to whom the records pertain. In addition, if an individual submitting a request for access wishes to be supplied with copies of the records by mail, the requester must include with his or her request sufficient data for the agency to verify the requester's identity.

CONTESTING RECORDS PROCEDURE:

Individuals seeking to contest or amend records maintained in this system of records must direct their request to the address indicated in the “RECORD ACCESS PROCEDURES” paragraph, above and must follow the procedures set forth in 7 CFR 1.116, (Request for correction or amendment to record). All requests must state clearly and concisely what record is being contested, the reasons for contesting it, and the proposed amendment to the record.

NOTIFICATION PROCEDURE:

Individuals may be notified if a record in this system of records pertains to them when the individuals request information utilizing the same procedures as those identified in the “RECORD ACCESS PROCEDURES” paragraph, above.

EXEMPTIONS CLAIMED BY THE SYSTEM:

None.

HISTORY:

Published as a modified system on October 8, 2015 (80 FR 60872-60875, APHIS-2014-0036).

Published as a new system on April 30, 2008 (73 FR 23404-23406, APHIS-2006-0018).

A report on the modified system of records, required by 5 U.S.C. 552a(r), as implemented by Office of Management and Budget Circular A-108, was sent to the Chairman and Ranking Member of the House Committee on Oversight and Reform, Chairman and Ranking Member of the Senate Committee on Homeland Security and Governmental Affairs, and the Administrator of the Office of Management and Budget's Office of Information and Regulatory Affairs.

Done in Washington, DC, this 2nd day of July 2024.
Michael Watson,
Administrator, Animal and Plant Health Inspection Service.

[FR Doc. 2024-15113 Filed 7-9-24; 8:45 am]

BILLING CODE 3410-34-P